DEPARTMENT OF AGRICULTURE

Forest Service

Hiawatha East Resource Advisory Committee Meeting

AGENCY: Forest Service, USDA.

ACTION: Notice of meetings.

SUMMARY: The Hiawatha East Resource Advisory Committee (RAC) will meet in Kincheloe, Michigan. The committee is authorized under the Secure Rural Schools and Community Self-Determination Act (the Act) and operates in compliance with the Federal Advisory Committee Act. The purpose of the committee is to improve collaborative relationships and to provide advice and recommendations to the Forest Service concerning projects and funding consistent with Title II of the Act. RAC information can be found at the following Web site: http://cloudapps-usda-gov.force.comlFSSRSlRAC_Page?id=OOIt0000002JcwPAAS.

DATES: The meeting will be held on April 28, 2016, at 5:00 p.m. All RAC meetings are subject to cancellation. For status of meeting prior to attendance, please contact the person listed under FOR FURTHER INFORMATION CONTACT.

ADDRESSES: The meeting will be held at Chippewa County 911 Center, 4657 West Industrial Park Drive, Kincheloe, Michigan.

Written comments may be submitted as described under SUPPLEMENTARY INFORMATION. All comments, including names and addresses when provided, are placed in the record and are available for public inspection and copying. The public may inspect comments received at Hiawatha National Forest Supervisor's Office. Please call ahead to facilitate entry into the building.

FOR FURTHER INFORMATION CONTACT: Janel Crooks, RAC Coordinator, by phone at 906-428-5800 or via email atHiawathaNF@ftfed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

1. Provide updates regarding implementation of past projects;

2. Review the role of the RAC, especially for new members;

3. Review and discuss proposals; and

4. Vote to recommend proposals to the Deciding Federal Official.

The meeting is open to the public. The agenda will include time for people to make oral statements of three minutes or less. Individuals wishing to make an oral statement should request in writing by April 8, 2016, to be scheduled on the agenda. Anyone who would like to bring related matters to the attention of the committee may file written statements with the committee staff before or after the meeting. Written comments and requests for time for oral comments must be sent to Hiawatha National Forest; Attention: RAC; 820 Rains Drive, Gladstone, Michigan 49837; by email to HiawathaNF@ftfed.us; or via facsimile to 906-428-9030.

Meeting Accommodations: If you are a person requiring reasonable accommodation, please make requests in advance for sign language interpreting, assistive listening devices, or other reasonable accommodation. For access to the facility or proceedings, please contact the person listed in the section titled FOR FURTHER INFORMATION CONTACT. All reasonable accommodation requests are managed on a case by case basis.

Dated: February 26, 2016.
Robert West,
District Ranger.

[FR Doc. 2016-06647 Filed 3-23-16; 8:45 am]

BILLING CODE 3411-15-P